DEPARTMENT OF COMMERCE

International Trade Administration

[A-570-182]

Thermoformed Molded Fiber Products From the People's Republic of China: Final Affirmative Determination of Sales at Less Than Fair Value

AGENCY: Enforcement and Compliance, International Trade Administration, Department of Commerce.

SUMMARY: The U.S. Department of Commerce (Commerce) determines that thermoformed molded fiber products (molded fiber products) from the People's Republic of China (China) are being, or are likely to be, sold in the United States at less than fair value (LTFV) during the period of investigation (POI) April 1, 2025, through September 30, 2025.

DATES: Applicable September 30, 2025.

FOR FURTHER INFORMATION CONTACT: Dennis McClure or Matthew Lipka, AD/CVD Operations, Office VIII, Enforcement and Compliance, International Trade Administration, U.S. Department of Commerce, 1401 Constitution Avenue NW, Washington, DC 20230; telephone: (202) 482-5973, or (202) 482-7976, respectively.

SUPPLEMENTARY INFORMATION:

Background

On May 12, 2025, Commerce published the Preliminary Determination in the Federal Register and invited interested parties to comment.¹ On May 12, 2025, Commerce received timely ministerial error allegations from separate rate applicants Shaoneng Group Guangdong Luzhou Eco Technology Co., Ltd. (Eco Technology) and Shaoneng Group Luzhou Eco (Xinfeng) Technology Co., Ltd. (Xinfeng); and from mandatory respondent Zhejiang Zhongxin Environmental Protection Technology Group Co., Ltd. (Zhejiang Zhongxin) and its affiliates, Chongzuo Zhongxin Environmental Protection Technology Co., Ltd., Guangxi Huabao Fiber Products Co., Ltd., Jinhua Zhongsheng Fiber Products Co., Ltd., Hangzhou Ganzhejun Environmental Protection Technology Co., Ltd., and Guangxi Huabao (collectively, the Zhongxin Group).² On May 15 and May 19, 2025, two additional separate rate applicants submitted comments concerning their combination rates which we considered in this final determination.³ On June 11, 2025, Commerce published the Amended Preliminary Determination in the Federal Register.⁴ On July 23, 2025, Commerce released its Post-Preliminary Analysis to implement changes to the differential pricing analysis in this investigation.⁵ For a complete description of the events that followed the Preliminary Determination, see the Issues and Decision Memorandum.⁶

¹ See Thermoformed Molded Fiber Products from the People's Republic of China: Preliminary Affirmative Determination of Sales at Less Than Fair Value, Postponement of Final Determination and Extension of Provisional Measures, 90 FR 20147 (May 12, 2025) (Preliminary Determination), and accompanying Preliminary Decision Memorandum (PDM).

² See Eco Technology's Letter, “Request to Correct Significant Ministerial Error,” dated May 12, 2025 (Eco Technology's ME Allegation); see also Xinfeng's Letter, “Request to Correct Significant Ministerial Error,” dated May 12, 2025 (Xinfeng's ME Allegation); see also Zhejiang Zhongxin's Letter, “Ministerial Error Comments for the Preliminary Determination,” dated May 12, 2025 (Zhejiang Zhongxin's ME Allegation). In the Preliminary Determination, Commerce preliminarily determined that Zhejiang Zhongxin was affiliated with Chongzuo Zhongxin Environmental Protection Technology Co., Ltd., Guangxi Huabao Fiber Products Co., Ltd., Jinhua Zhongsheng Fiber Products Co., Ltd., and Hangzhou Ganzhejun Environmental Protection Technology Co., Ltd. and should be treated as a single entity. No parties challenged those findings, and we are continuing to collapse those firms in this final determination.

³ See Wenzhou Keyi Environmental Protection Tableware Co., Ltd.'s Letter, “Request to Correct,” dated May 15, 2025; see also Fujian Lvwei Environmental Protection Tableware Co., Ltd.'s Letter, “Request to Correct,” dated May 19, 2025.

⁴ See Thermoformed Molded Fiber Products from the People's Republic of China: Correction and Amended Preliminary Determination of Sales at Less Than Fair Value, 90 FR 24590 (June 11, 2025) (Amended Preliminary Determination), and accompanying Ministerial Errors Memorandum (ME Memorandum).

⁵ See Memorandum, “Post-Preliminary Analysis in the Less-Than-Fair-Value Investigation of Thermoformed Molded Fiber Products from the People's Republic of China,” dated July 23, 2025 (Post-Preliminary Analysis Memorandum).

⁶ See Memorandum, “Issues and Decision Memorandum for the Final Affirmative Determination in the Less-Than-Fair-Value Investigation of Thermoformed Molded Fiber Products from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Scope of the Investigation

The products covered by this investigation are molded fiber products from China. For a complete description of the scope of this investigation, see Appendix I.

Scope Comments

In the Preliminary Scope Memorandum, we set aside a period of time for parties to raise issues regarding product coverage (i.e., scope) in scope-specific case briefs or other written comments.⁷ We received comments from multiple interested parties on the scope of the investigation as it appeared in the Preliminary Determination. For a summary of the product coverage comments submitted to the record for this final determination, and accompanying discussion and analysis of all comments timely received, see the Final Scope Decision Memorandum.⁸ After analyzing these comments, we made no changes to the scope of the investigation as it appeared in the Preliminary Determination for this final determination. See Appendix I.

⁷ See Memorandum, “Preliminary Scope Decision Memorandum,” dated May 6, 2025.

⁸ See Memorandum, “Less-Than-Fair-Value and Countervailing Duty Investigations of Thermoformed Molded Fiber Products from the People's Republic of China and the Socialist Republic of Vietnam: Final Scope Decision Memorandum,” dated concurrently, and hereby adopted by, this notice (Final Scope Decision Memorandum).

Verification

As provided in section 782(i) of the Tariff Act of 1930, as amended (the Act), between June 11 and 19, 2025, Commerce conducted verification of the sales and factors of production information submitted by Guangxi Firstpak Environmental Technology Co., Ltd. (Guangxi Firstpak) and the Zhongxin Group.⁹ We used standard verification procedures, including an examination of relevant accounting records and original source documents provided by Guangxi Firstpak and the Zhongxin Group.

⁹ See Memoranda, “Verification of the Questionnaire Responses of Zhejiang Zhongxin Environmental Protection Technology Group Co., Ltd. in the Antidumping Investigation of Thermoformed Molded Fiber Product from the People's Republic of China,” dated July 15, 2025; and “Verification of the Questionnaire Responses of Guangxi Firstpak Environmental Technology Co., Ltd. in the Antidumping Investigation of Thermoformed Molded Fiber Products from the People's Republic of China,” dated July 21, 2025.

Analysis of Comments Received

The issues raised in the case and rebuttal briefs by the parties in this investigation are discussed in the Issues and Decision Memorandum. For a list of the issues raised by interested parties and addressed in the Issues and Decision Memorandum, see Appendix II.

Changes Since the Preliminary Determination

Based on a review of the record and analysis of the information received during verification and comments received from interested parties for this final determination, we made certain changes to the estimated weighted-average dumping margins for Guangxi Firsptak and Zhejiang Zhongxin and made certain changes to the names included in combination rates for two separate rate companies. For a discussion of these changes, see the Issues and Decision Memorandum.

China-Wide Entity and Use of Adverse Facts Available

Consistent with the Preliminary Determination,¹⁰ Commerce continues to find, pursuant to sections 776(a) and (b) of the Act, that the use of facts otherwise available, with adverse inferences, is warranted in determining the dumping rate for the China-wide entity. In the Preliminary Determination, Commerce applied the highest dumping margin alleged in the Petition to the China-wide entity as AFA.¹¹ There is no new information on the record that would cause us to reconsider our decision in the Preliminary Determination. Thus, we made no changes to our analysis for the China-wide entity. We are assigning a rate of 477.97 percent, which is the highest margin alleged in the petition,¹² to the China-wide entity. For a full description of the methodology underlying Commerce's final determination, see the Issues and Decision Memorandum.

¹⁰ See Preliminary Determination PDM at 23-24, 27-30.

¹¹ Id.

¹² See Petitioners' Letter, “Thermoformed Molded Fiber Products from the People's Republic of China and the Socialist Republic of Vietnam: Antidumping and Countervailing Duty Petitions,” dated October 8, 2024; see also Checklist, “Thermoformed Molded Fiber Products from the People's Republic of China,” dated October 28, 2024 at 7; and Petitioners' Letter, “Responses to China AD Questionnaire,” dated October 16, 2024 at II-Supp-13.

Separate Rates

No interested parties commented on Commerce's preliminary separate rate determinations,¹³ and we have no basis to reconsider the determinations except for the changes to the names for separate rate companies mentioned above. Accordingly, we continue to find that Guangxi Firstpak, the Zhongxin Group, and certain non-individually examined companies that are listed in the rate table below, are eligible for a separate rate.¹⁴

¹³ See Preliminary Determination PDM at 15-23.

¹⁴ See Memorandum, “Calculation of the Dumping Margin for Respondents Not Selected for Individual Examination,” dated September 24, 2025.

Combination Rates

Consistent with the Preliminary Determination, and Policy Bulletin 05.1,¹⁵ Commerce calculated exporter/producer combination rates for the respondents that are eligible for a separate rate.

¹⁵ See Enforecement and Compliance's Policy Bulletin No. 05.1, regarding, “Separate-Rates Practice and Application of Combination Rates in Antidumping Investigations involving Non-Market Economy Countries,” (April 5, 2005) (Policy Bulletin 05.1), available at https://access.trade.gov/Resourced/policy/bull05-1.pdf.

Final Determination

Commerce determines that the following estimated weighted-average dumping margins exist for the period April 1, 2024, through September 30, 2024:

¹⁶ In the Preliminary Determination, we collapsed four firms (Chongzuo Zhongxin Environmental Protection Technology Co., Ltd., Guangxi Huabao Fiber Products Co., Ltd., Hangzhou Ganzhejun Environmental Protection Technology Co., Ltd., and Jinhua Zhongsheng Fiber Products Co., Ltd.) with Zhejiang Zhongxin Environmental Protection Technology Group Co., Ltd. No parties challenged those findings, and we are continuing to collapse those firms in this final determination.

Exporter | Producer | Weighted- average dumping margin (percent) | Cash deposit rate (adjusted for subsidy offsets) (percent)
Guangxi Firstpak Environmental Technology Co., Ltd | Guangxi Firstpak Environmental Technology Co., Ltd | 49.08 | 49.01
Zhejiang Zhongxin Environmental Protection Technology Group Co., Ltd./Chongzuo Zhongxin Environmental Protection Technology Co., Ltd./Guangxi Huabao Fiber Products Co., Ltd./Hangzhou Ganzhejun Environmental Protection Technology Co., Ltd./Jinhua Zhongsheng Fiber Products Co., Ltd ¹⁶ | Zhejiang Zhongxin Environmental Protection Technology Group Co., Ltd./Chongzuo Zhongxin Environmental Protection Technology Co., Ltd./Guangxi Huabao Fiber Products Co., Ltd./Hangzhou Ganzhejun Environmental Protection Technology Co., Ltd./Jinhua Zhongsheng Fiber Products Co., Ltd | 283.89 | 283.72
Xiamen Win Win Bag Co., Ltd | Shandong Yijia Packaging Technology Co., Ltd | 214.73 | 214.56
Anhui Shangjia Environmental Tableware Co., Ltd | Anhui Shangjia Environmental Tableware Co., Ltd | 214.73 | 214.56
Shandong Tranlin Straw New Environmental Technology Joint Stock Company Limited | Shandong Tranlin Straw New Environmental | 214.73 | 214.56
Shandong Teanhe Hongsheng International Trade Co., Ltd | Shandong Tranlin Straw New Environmental | 214.73 | 214.56
Zhejiang Kingsun Eco-Pack Co. Ltd | Zhejiang Kingsun Eco-Pack Co. Ltd | 214.73 | 214.56
Zhejiang Kingsun Eco-Pack Co. Ltd | Guangxi Jiefeng Biological Technology Co., Ltd | 214.73 | 214.56
Guangxi Jiefeng Biological Technology Co., Ltd | Guangxi Jiefeng Biological Technology Co., Ltd | 214.73 | 214.56
Guangxi Fineshine ECO Technology Co., Ltd | Guangxi Fineshine ECO Technology Co., Ltd | 214.73 | 214.56
Wenzhou Sanxing Eco-Friendly Packaging Co., Ltd | Wenzhou Sanxing Eco-Friendly Packaging Co., Ltd | 214.73 | 214.56
Guangdong Shaoneng Group Luzhou Technology Development Co., Ltd | Shaoneng Group Luzhou Eco (Xinfeng) Technology Co., Ltd | 214.73 | 214.56
Guangdong Shaoneng Group Luzhou Technology Development Co., Ltd | Shaoneng Group Guangdong Luzhou Eco Technology Co., Ltd | 214.73 | 214.56
Shaoneng Group Luzhou Eco (Xinfeng) Technology Co., Ltd | Shaoneng Group Luzhou Eco (Xinfeng) Technology Co., Ltd | 214.73 | 214.56
Shaoneng Group Luzhou Eco (Xinfeng) Technology Co., Ltd | Shaoneng Group Guangdong Luzhou Eco Technology Co., Ltd | 214.73 | 214.56
Shaoneng Group Luzhou Eco (Xinfeng) Technology Co., Ltd | Longyan Green Olive Co., Ltd | 214.73 | 214.56
Shaoneng Group Luzhou Eco (Xinfeng) Technology Co., Ltd | Hebei Daoxiang Eco Technology Co., Ltd | 214.73 | 214.56
Shaoneng Group Luzhou Eco (Xinfeng) Technology Co., Ltd | Guangxi Fineshine ECO Technology Co., Ltd | 214.73 | 214.56
Shaoneng Group Luzhou Eco (Xinfeng) Technology Co., Ltd | Zhejiang Fuchang Environmental Protection Technology Co., Ltd | 214.73 | 214.56
Shaoneng Group Guangdong Luzhou Eco Technology Co., Ltd | Shaoneng Group Guangdong Luzhou Eco Technology Co., Ltd | 214.73 | 214.56
Shaoneng Group Guangdong Luzhou Eco Technology Co., Ltd | Cangzhou Jinda Packaging Products Co., Ltd | 214.73 | 214.56
Shaoneng Group Guangdong Luzhou Eco Technology Co., Ltd | Minjie Eco-Machinery Technology Co., Ltd | 214.73 | 214.56
Shaoneng Group Guangdong Luzhou Eco Technology Co., Ltd | Shaoneng Group Luzhou Eco (XinFeng) Technology Co., Ltd | 214.73 | 214.56
Shaoneng Group Guangdong Luzhou Eco Technology Co., Ltd | Hainan Huandu Biotechnology Co., Ltd | 214.73 | 214.56
Shaoneng Group Guangdong Luzhou Eco Technology Co., Ltd | Hebei Daoxiang Eco Technology Co., Ltd | 214.73 | 214.56
Shaoneng Group Guangdong Luzhou Eco Technology Co., Ltd | HuiZhou Gold-Superman Packing Material Co., Ltd | 214.73 | 214.56
Shaoneng Group Guangdong Luzhou Eco Technology Co., Ltd | Nanxiong Taihua Plastic Products Co., Ltd | 214.73 | 214.56
Shaoneng Group Guangdong Luzhou Eco Technology Co., Ltd | NAN Xiong Yangxin ECO Packing Co., Ltd | 214.73 | 214.56
Shaoneng Group Guangdong Luzhou Eco Technology Co., Ltd | Shandong Qizheng Packaging Co., Ltd | 214.73 | 214.56
Shaoneng Group Guangdong Luzhou Eco Technology Co., Ltd | Zhejiang Fuchang Environmental Protection Technology Co., Ltd | 214.73 | 214.56
Shaoneng Group Guangdong Luzhou Eco Technology Co., Ltd | Jiangmen Zhuoyu Technology Co., Ltd | 214.73 | 214.56
Shaoneng Group Guangdong Luzhou Eco Technology Co., Ltd | Dongguan Lvluo Environmental Protection Technology Co., Ltd | 214.73 | 214.56
Shaoneng Group Guangdong Luzhou Eco Technology Co., Ltd | Nanxiong Aerospace Health Technology Co., Ltd | 214.73 | 214.56
Shaoneng Group Guangdong Luzhou Eco Technology Co., Ltd | Purpus Packaging Technology (Dongguan) Co., Ltd | 214.73 | 214.56
Shaoneng Group Guangdong Luzhou Eco Technology Co., Ltd | Shantou Jinshida Supersonic Machine Co., Ltd | 214.73 | 214.56
Clean Packaging Technology (Shenzhen) Co., Ltd | GreenDoer Advanced Materials, Co., Ltd | 214.73 | 214.56
Ningbo HomeLink Eco-itech Co., Ltd | Zhejiang Jiadebao Technology Co., Ltd | 214.73 | 214.56
Ningbo HomeLink Eco-itech Co., Ltd | Guangxi Ecolink Technology Co., Ltd | 214.73 | 214.56
Guangxi Ecolink Technology Co., Ltd | Guangxi Ecolink Technology Co., Ltd | 214.73 | 214.56
Shandong Shengquan New Materials Co., Ltd | Shandong Shengquan New Materials Co., Ltd | 214.73 | 214.56
Jiangsu Jinsheng Environmental Protection Tableware Co., Ltd | Jiangsu Jinsheng Environmental Protection Tableware Co., Ltd | 214.73 | 214.56
Hubei Wheat-Straw Environmental Technologies Co., Ltd | Hubei Wheat-Straw Environmental Technologies Co., Ltd | 214.73 | 214.56
Shandong Lvhe Packaging Co., Ltd | Shandong Tranlin Straw New Environmental Technology Joint Stock Company Limited | 214.73 | 214.56
Yibin YUTO Eco Packaging Technology Co., Ltd | Yibin YUTO Eco Packaging Technology Co., Ltd | 214.73 | 214.56
HaiKou YUTO Eco Technology Co., Ltd | HaiKou YUTO Eco Technology Co., Ltd | 214.73 | 214.56
Xiamen Target Trade Co., Ltd | GeoTegrity Eco Pack (Xiamen) Co., Ltd | 214.73 | 214.56
Guangzhou Jiurong Packaging Co., Ltd | Guandong Fenghua Paper Co., Ltd | 214.73 | 214.56
Guangzhou Jiurong Packaging Co., Ltd | Zhejiang Guangju Paper Products Co., Ltd | 214.73 | 214.56
Guangzhou Jiurong Packaging Co., Ltd | Shaoneng Group Guangdong Luzhou Eco Technology Co., Ltd | 214.73 | 214.56
Guangzhou Jiurong Packaging Co., Ltd | Shaoneng Group Luzhou (Xinfeng) Technology Co., Ltd | 214.73 | 214.56
Guangdong Huilin Packaging Technology Group Co., Ltd | Shenzhen Pinchuang Supply Chain Co., Ltd | 214.73 | 214.56
Guangdong Huilin Packaging Technology Group Co., Ltd | Pinchuang Fabric Products Factory | 214.73 | 214.56
Fuzhou Hengli Paper Co., Ltd | Shaoneng Group Guangdong Luzhou Eco Technology Co., Ltd | 214.73 | 214.56
Fuzhou Hengli Paper Co., Ltd | Shenzhen Yike Environmental Resources Co., Ltd | 214.73 | 214.56
Sabert Asia Holdings Limited | Sabert (Zhongshan) Limited | 214.73 | 214.56
Fujian Lvwei Environmental Protection Tableware Co., Ltd | Fujian Lvwei Environmental Protection Tableware Co., Ltd | 214.73 | 214.56
Wenzhou Keyi Environmental Protection Tableware Co., Ltd | Wenzhou Keyi Environmental Protection Tableware Co., Ltd | 214.73 | 214.56
China-wide Entity |  | * 477.97 | 477.90
* This rate is based on facts available with adverse inferences.

Disclosure

Commerce intends to disclose the calculations performed in connection with this final determination within five days of any public announcement or, if there is no public announcement, within five days of the date of publication of this notice in the Federal Register in accordance with 19 CFR 351.224(b).

Continuation of Suspension of Liquidation

In accordance with section 735(c)(1)(B) of the Act, we will instruct U.S. Customs and Border Protection (CBP) to continue to suspend liquidation of subject merchandise entries, as described in Appendix I of this notice, which are entered, or withdrawn from warehouse, for consumption on or after May 12, 2025, the date of publication of the Preliminary Determination in the Federal Register.

Pursuant to section 735(c)(1)(B)(ii) of the Act and 19 CFR 351.210(d), upon the publication of this notice, Commerce will instruct CBP to require a cash deposit for estimated antidumping duties for appropriate entries: (1) for the producer/exporter combinations listed in the table above, the applicable cash deposit rate is listed in the table for that combination; (2) for all combinations of Chinese producers/exporters of the merchandise under consideration that have not established eligibility for a separate rate, the cash deposit rate will be equal to the cash deposit rate listed for the China-wide entity in the table above; and (3) for all third-country exporters of the merchandise under consideration that are not listed in the table above, the cash deposit rate is the cash deposit rate applicable to the Chinese producer/exporter combination or the China-wide entity that supplied that third-country exporter. These suspension of liquidation instructions will remain in effect until further notice.

To determine the antidumping duty cash deposit rate, Commerce normally adjusts the estimated weighted-average dumping margin by the amount of domestic subsidy pass-through and export subsidies determined in a companion countervailing duty (CVD) proceeding. In the companion CVD final determination, Commerce determined export subsidy rates exist for Guangxi Firstpak, and the Zhongxin Group.¹⁷ Thus, because Guangxi Firstpak and the Zhongxin Group in the companion CVD investigation have export subsidy rates, Commerce is offsetting Guangxi Firstpak, the Zhongxin Group, the separate rate companies, and the China-wide entity's estimated weighted-average dumping margins for export subsidies.¹⁸ However, the suspension of liquidation of provisional measures in the companion CVD investigation has been discontinued.¹⁹ Therefore, we are not instructing CBP to collect cash deposits based on the adjusted estimated weighted-average dumping margin for export subsidies at this time. If the U.S. International Commission (ITC) makes a final affirmative determination of injury due to both dumping and subsidies, then the cash deposit rate will be revised effective on the date of publication of the ITC's final affirmative determination in the Federal Register to be the weighted-average dumping margin adjusted for export subsidies.

¹⁷ See unpublished Federal Register notice, “Thermorformed Molded Fiber Products from the People's Republic of China: Final Affirmative Countervailing Duty Determination,” dated concurrently with this notice.

¹⁸ See Memorandum, “Export Subsidy Cash Deposit Rate Adjustments,” dated concurrently with this notice.

¹⁹ See Thermoformed Molded Fiber Products from the People's Republic of China: Preliminary Affimative Countervailing Duty Determination and Alignment of Final Determination with Final Antidumping Duty Determination, 90 FR 12123 (March 14, 2025); see also section 703(d) of the Act, which states that the provisional measures may not be in effect for more than four months, which in the companion CVD case is 120 days after the publication of the preliminary determination, or July 11, 2025 (i.e., last day provisional measures are in effect).

ITC Notification

In accordance with section 735(d) of the Act, we will notify the ITC of this final affirmative determination of sales at LTFV. Because the final determination in this investigation is affirmative, in accordance with section 735(b)(2) of the Act, the ITC will make its final determination as to whether the domestic industry in the United States is materially injured, or threatened with material injury, by reason of imports of molded fiber products no later than 45 days after this final determination. In addition, we are making available to the ITC all nonprivileged and nonproprietary information related to this investigation.

If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section above.

Administrative Protective Order (APO)

This notice also serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: September 24, 2025.
Christopher Abbott,
Deputy Assistant Secretary for Policy and Negotiations, performing the non-exclusive functions and duties of the Assistant Secretary for Enforcement and Compliance.

Appendix I

Scope of the Investigation

The merchandise subject to this investigation consists of thermoformed molded fiber products regardless of shape, form, function, fiber source, or finish. Thermoformed molded fiber products are formed with cellulose fibers, thermoformed using one or more heated molds, and dried/cured in the mold.

Thermoformed molded fiber products include, but are not limited to, plates, bowls, clamshells, trays, lids, food or foodservice contact packaging, and consumer or other product packaging.

Thermoformed molded fiber products are relatively dense, with a typical fiber density above 0.5 grams per cubic centimeter, and are generally characterized by relatively smooth surfaces. They may be derived from any virgin or recycled cellulose fiber source (including, but not limited to, those sourced from wood, woody crops, agricultural crops/byproducts/residue, and agricultural/industrial/other waste). They may have any weight, shape, dimensionality, design, or size, and may be bleached, unbleached, dyed, colored, or printed. They may include ingredients, additives, or chemistries to enhance functionality including, but not limited to, anti-microbial, anti-fungal, anti-bacterial, heat/flame resistant, hydrophobic, oleophobic, absorbent, or adsorbent. Thermoformed molded fiber products may also be subject to other processing or treatments, including, but not limited to, hot or after pressing, die-cutting, punching, trimming, padding, perforating, printing, labeling, dying, coloring, coating, laminating, embossing, debossing, repacking, or denesting. Thermoformed molded fiber products subject to this investigation may also have additional design features, including, but not limited to, tab closures, venting, channeling, or stiffening.

Thermoformed molded fiber products remain covered by the scope of this investigation if the subject product is encased by exterior packaging. They also remain covered by the scope of this investigation whether imported alone, or in any combination of subject and non-subject merchandise (e.g., a lid or cover of any type packaged with a molded fiber bowl, addition of any items to make the thermoformed molded fiber packaging suitable for end-use such as absorbent pads). When thermoformed molded fiber products are imported in combination with non-subject merchandise, only the thermoformed molded fiber products are subject merchandise.

Also excluded from the scope of this investigation are products covered by the scope of the antidumping and countervailing duty orders on paper plates from People's Republic of China, the Kingdom of Thailand, and the Socialist Republic of Vietnam.

Excluded from the scope of this investigation are thermoformed molded fiber products imported as packaging material that enclose and/or surround non-subject merchandise prepackaged for final sale upon importation into the United States (e.g., molded fiber packaging surrounding a cellular phone).

Thermoformed molded fiber products include thermoformed molded fiber products matching the above description that have been finished, packaged, or otherwise processed in a third country by performing finishing, packaging, or processing that would not otherwise remove the merchandise from the scope of the investigation if performed in the country of manufacture of the thermoformed molded fiber products. Examples of finishing, packaging, or other processing in a third country that would not otherwise remove the merchandise from the scope of the investigation if performed in the country of manufacture of the thermoformed molded fiber products include, but are not limited to, hot or after pressing, die-cutting, punching, trimming, padding, perforating, printing, labeling, dying, coloring, coating, laminating, embossing, debossing, repacking, or denesting.

Thermoformed molded fiber products are classified under subheadings 4823.70.0020 and 4823.70.0040, Harmonized Tariff Schedule of the United States (HTSUS). Imports may also be classified under subheadings 4823.61.0020, 4823.61.0040, 4823.69.0020, 4823.69.0040, 4823.90.1000, HTSUS. References to the HTSUS classification are provided for convenience and customs purposes, and the written description of the merchandise under investigation is dispositive.

Appendix II

List of Topics Discussed in the Issues and Decision Memorandum

I. Summary

II. Background

III. Adjustments to Cash Deposit Rate for Export Subsidies

IV. Separate Rates

V. Changes Since the Preliminary Determination and Amended Preliminary Determination

VI. Application of Facts Available and Use of Adverse Inference

VII. Discussion of the Issues

Comment 1: Whether Commerce Selected the Proper Surrogate Country

Comment 2: Whether to Inflate Marine Insurance Surrogate Value

Comment 3: Whether to Apply Partial Adverse Facts Available to Certain of Guangxi Firstpak's Packing Inputs

Comment 4: Whether to Correct the Record Regarding Guangxi Firstpak's Verification Report

Comment 5: Whether to Apply Total Adverse Facts Available to the Zhongxin Group for their Pulp Factors of Production (FOP)

Comment 6: Whether to Apply the Highest Surrogate Value as Partial Facts Available for the Zhongxin Group's Unreported Pulp Type

VIII. Recommendation

[FR Doc. 2025-18891 Filed 9-29-25; 8:45 am]

BILLING CODE 3510-DS-P